DEPARTMENT OF HOMELAND SECURITY

Federal Emergency Management Agency

[Docket ID FEMA-2013-0002]

Changes in Flood Hazard Determinations

AGENCY: Federal Emergency Management Agency, DHS.

ACTION: Final Notice.

SUMMARY: New or modified Base (1% annual-chance) Flood Elevations (BFEs), base flood depths, Special Flood Hazard Area (SFHA) boundaries or zone designations, and/or the regulatory floodway (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities. The flood hazard determinations modified by each LOMR will be used to calculate flood insurance premium rates for new buildings and their contents.

DATES: The effective date for each LOMR is indicated in the table below.

ADDRESSES: Each LOMR is available for inspection at both the respective Community Map Repository address listed in the table below and online through the FEMA Map Service Center at www.msc.fema.gov.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and ninety (90) days have elapsed since that publication. The Deputy Associate Administrator for Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The new or modified flood hazard determinations are the basis for the floodplain management measures that the community is required either to adopt or to show evidence of being already in effect in order to remain qualified for participation in the National Flood Insurance Program (NFIP).

These new or modified flood hazard determinations, together with the floodplain management criteria required by 44 CFR 60.3, are the minimum that are required. They should not be construed to mean that the community must change any existing ordinances that are more stringent in their floodplain management requirements. The community may at any time enact stricter requirements of its own or pursuant to policies established by other Federal, State, or regional entities.

These new or modified flood hazard determinations are used to meet the floodplain management requirements of the NFIP and also are used to calculate the appropriate flood insurance premium rates for new buildings, and for the contents in those buildings. The changes in flood hazard determinations are in accordance with 44 CFR 65.4.

Interested lessees and owners of real property are encouraged to review the final flood hazard information available at the address cited below for each community or online through the FEMA Map Service Center at www.msc.fema.gov.

State and county | Location and case No. | Chief executive officer of community | Community map repository | Effective date of modification | Community No.
Alabama:
Jefferson (FEMA Docket No.: B-1277) | City of Pinson (12-04-3890P) | The Honorable Hoyt Sanders, Mayor, City of Pinson, City Hall, 4410 Main Street, Pinson, AL 35126 | City Hall, 4410 Main Street, Pinson, AL 35126 | December 17, 2012 | 010447
Jefferson (FEMA Docket No.: B-1277) | Unincorporated areas of Jefferson County (12-04-3890P) | The Honorable David Carrington, President, Jefferson County Commission, 716 Richard Arrington, Jr., Boulevard North, Birmingham, AL 35203 | Jefferson County Courthouse, Land Development Office, 716 North 21st Street, Room 202A, Birmingham, AL 35263 | December 17, 2012 | 010217
Mobile (FEMA Docket No.: B-1277) | City of Mobile (12-04-4167P) | The Honorable Samuel L. Jones, Mayor, City of Mobile, P.O. Box 1827, Mobile, AL 36633 | City Hall, Engineering Department, 205 Government Street, 3rd Floor, Mobile, AL 36644 | December 28, 2012 | 015007
Arizona:
Pinal (FEMA Docket No.: B-1277) | Unincorporated areas of Pinal County (12-09-1236P) | The Honorable David Snider, Chairman, Pinal County Board of Supervisors, P.O. Box 827, Florence, AZ 85132 | Pinal County Engineering Department, 31 North Pinal Street, Building F, Florence, AZ 85232 | January 7, 2013 | 040077
Yavapai (FEMA Docket No.: B-1277) | Town of Camp Verde (12-09-1430P) | The Honorable Bob Burnside, Mayor, Town of Camp Verde, 473 South Main Street, Suite 102, Camp Verde, AZ 86322 | Town Clerk's Office, 473 South Main Street, Room 102, Camp Verde, AZ 86322 | December 31, 2012 | 040131
California:
San Diego (FEMA Docket No.: B-1277) | City of Oceanside (12-09-1206P) | The Honorable Jim Wood, Mayor, City of Oceanside, 300 North Coast Highway, Oceanside, CA 92054 | City Hall, Planning Department, 300 North Coast Highway, Oceanside, CA 92054 | December 31, 2012 | 060294
San Diego (FEMA Docket No.: B-1277) | City of San Diego (12-09-2141P) | The Honorable Jerry Sanders, Mayor, City of San Diego, 202 C Street, 11th Floor, San Diego, CA 92101 | Executive Complex, 1010 2nd Avenue, Suite 100, San Diego, CA 92101 | December 17, 2012 | 060295
Colorado:
Denver (FEMA Docket No.: B-1277) | City and County of Denver (12-08-0474P) | The Honorable Michael B. Hancock, Mayor, City and County of Denver, 1437 Bannock Street, Suite 350, Denver, CO 80202 | Public Works Department, 201 West Colfax Avenue, Denver, CO 80202 | December 17, 2012 | 080046
Denver (FEMA Docket No.: B-1277) | City and County of Denver (12-08-0552P) | The Honorable Michael B. Hancock, Mayor, City and County of Denver, 1437 Bannock Street, Suite 350, Denver, CO 80202 | Public Works Department, 201 West Colfax Avenue, Denver, CO 80202 | December 17, 2012 | 080046
El Paso (FEMA Docket No.: B-1277) | City of Colorado Springs (12-08-0168P) | The Honorable Stephen G. Bach, Mayor, City of Colorado Springs, 30 South Nevada Avenue, Suite 601, Colorado Springs, CO 80903 | City Administration Department, 30 South Nevada Avenue, Colorado Springs, CO 80903 | January 4, 2013 | 080060
El Paso (FEMA Docket No.: B-1277) | Unincorporated areas of El Paso County (12-08-0168P) | The Honorable Amy Lathen, Chair, El Paso County Board of Commissioners, 200 South Cascade Avenue, Suite 100, Colorado Springs, CO 80903 | El Paso County Regional Building Department, 2880 International Circle, Colorado Springs, CO 80910 | January 4, 2013 | 080059
Florida:
Monroe (FEMA Docket No.: B-1277) | Village of Islamorada (12-04-3438P) | The Honorable Ken Philipson, Mayor, Village of Islamorada, 86800 Overseas Highway, Islamorada, FL 33036 | Village Hall, 87000 Overseas Highway, Islamorada, FL 33036 | December 31, 2012 | 120424
Orange (FEMA Docket No.: B-1277) | City of Orlando (12-04-2707P) | The Honorable Buddy Dyer, Mayor, City of Orlando, P.O. Box 4990, Orlando, FL 32808 | Permitting Services, 400 South Orange Avenue, Orlando, FL 32301 | December 31, 2012 | 120186
Orange (FEMA Docket No.: B-1277) | Unincorporated areas of Orange County (12-04-2707P) | The Honorable Teresa Jacobs, Mayor, Orange County, 201 South Rosalind Avenue, 5th Floor, Orlando, FL 32801 | Orange County Stormwater Management Department, 4200 South John Young Parkway, Orlando, FL 32839 | December 31, 2012 | 120179
Seminole (FEMA Docket No.: B-1277) | City of Lake Mary (12-04-5487P) | The Honorable David Mealor, Mayor, City of Lake Mary, 911 Wallace Court, Lake Mary, FL 32746 | Engineering Department, 100 North Country Club Road, Lake Mary, FL 32746 | December 31, 2012 | 120416
St. Johns (FEMA Docket No.: B-1277) | Unincorporated areas of St. Johns County (12-04-5869P) | The Honorable Mark P. Miner, Chairman, St. Johns County Board of Commissioners, 500 San Sebastian View, St. Augustine, FL 32084 | St. Johns County Administration Building, 4020 Lewis Speedway, St. Augustine, FL 32084 | December 31, 2012 | 125147\
Sumter (FEMA Docket No.: B-1277) | Unincorporated areas of Sumter County (12-04-3513P) | The Honorable Garry Breeden, Chairman, Sumter County Board of Commissioners, 7375 Powell Road, Wildwood, FL 34785 | Sumter County Planning Department, 7375 Powell Road, Wildwood, FL 34785 | December 28, 2012 | 120296
Sumter (FEMA Docket No.: B-1277) | Unincorporated areas of Sumter County (12-04-3721P) | The Honorable Garry Breeden, Chairman, Sumter County Board of Commissioners, 7375 Powell Road, Wildwood, FL 34785 | Sumter County Planning Department, 7375 Powell Road, Wildwood, FL 34785 | December 28, 2012 | 120296
Walton (FEMA Docket No.: B-1277) | Unincorporated areas of Walton County (12-04-0761P) | The Honorable Scott Brannon, Chairman, Walton County Board of Commissioners, 415 State Highway 20, Freeport, FL 32439 | Walton County Courthouse Annex, 47 North 6th Street, DeFuniak Springs, FL 32435 | December 14, 2012 | 120317
Georgia:
Colquitt (FEMA Docket No.: B-1277) | Unincorporated areas of Colquitt County (12-04-5279P) | The Honorable John B. Alderman, Chairman, Colquitt County Board of Commissioners, P.O. Box 517, Moultrie, GA 31776 | Colquitt County Compliance Office, 101 East Central Avenue, Suite 168, Moultrie, GA 31768 | January 3, 2013 | 130058
Columbia (FEMA Docket No.: B-1277) | Unincorporated areas of Columbia County (12-04-3178P) | The Honorable Ron C Cross, Chairman, Columbia County Board of Commissioners, P.O. Box 498, Evans, GA 30809 | Columbia County Development Services Division, Engineering Services Department, 630 Ronald Reagan Drive, Building A, Evans, GA 30809 | December 27, 2012 | 130059
Nevada:
Clark (FEMA Docket No.: B-1277) | City of Henderson (11-09-3331P) | The Honorable Andy A. Hafen, Mayor, City of Henderson, P.O. Box 95050, Henderson, NV 89009 | City Hall, Public Works Department, 240 Water Street, Henderson, NV 89015 | December 14, 2012 | 320005
Clark (FEMA Docket No.: B-1277) | City of Henderson (12-09-2303P) | The Honorable Andy A. Hafen, Mayor, City of Henderson, P.O. Box 95050, Henderson, NV 89009 | City Hall, Public Works Department, 240 Water Street, Henderson, NV 89015 | December 14, 2012 | 320005
Clark (FEMA Docket No.: B-1277) | City of Mesquite (11-09-4157P) | The Honorable Mark Wier, Mayor, City of Mesquite, 10 East Mesquite Boulevard, Mesquite, NV 89027 | City Engineer's Office, 10 East Mesquite Boulevard, Mesquite, NV 89027 | December 14, 2012 | 320035
Clark (FEMA Docket No.: B-1277) | City of Mesquite (12-09-0907P) | The Honorable Mark Wier, Mayor, City of Mesquite, 10 East Mesquite Boulevard, Mesquite, NV 89027 | City Engineer's Office, 10 East Mesquite Boulevard, Mesquite, NV 89027 | December 28, 2012 | 320035
North Carolina:
Durham (FEMA Docket No.: B-1274) | Unincorporated areas of Durham County (11-04-0938P) | Mr. Mike Ruffin, Durham County Manager, 200 East Main Street, Durham, NC 27701 | Durham County Stormwater Services Division, 101 City Hall Plaza, Durham, NC 27701 | November 9, 2012 | 370085
Stanly (FEMA Docket No.: B-1274) | Unincorporated areas of Stanly County (12-04-0850P) | Mr. Andy Lucas, Stanly County Manager, 1000 North 1st Street, Albemarle, NC 28001 | Stanly County Planning and Zoning Department, 1000 North 1st Street, Albemarle, NC 28001 | November 9, 2012 | 370361
Wake (FEMA Docket No.: B-1274) | Unincorporated areas of Wake County (11-04-7980P) | The Honorable John W. Byrne, Mayor, Town of Fuquay-Varina, 401 Old Honeycutt Road, Fuquay-Varina, NC 27526 | Engineering Department, 401 Old Honeycutt Road, Fuquay-Varina, NC 27526 | December 13, 2012 | 370239
South Carolina:
Anderson (FEMA Docket No.: B-1277) | City of Anderson (12-04-0672P) | The Honorable Terrence Roberts, Mayor, City of Anderson, 401 South Main Street, Anderson, SC 29624 | City Hall, 401 South Main Street, Anderson, SC 29624 | December 24, 2012 | 450014
Anderson (FEMA Docket No.: B-1277) | Unincorporated areas of Anderson County (12-04-0672P) | The Honorable Tom Allen, Chairman, Anderson County Council, P.O. Box 8002, Anderson, SC 29621 | Anderson County Courthouse, 101 South Main Street, Anderson, SC 29624 | December 24, 2012 | 450013

(Catalog of Federal Domestic Assistance No. 97.022, “Flood Insurance.”)

Roy Wright,
Deputy Associate Administrator for Mitigation, Department of Homeland Security, Federal Emergency Management Agency.

[FR Doc. 2013-05198 Filed 3-5-13; 8:45 am]

BILLING CODE 9110-12-P